DEPARTMENT OF JUSTICE

Notice of Lodging of First Amendment to the Modification of the Work Schedule Pursuant to the Comprehensive Environmental Response, Compensation, and Liability Act

In accordance with Departmental policy, 28 CFR 50.7, notice is hereby given that on November 14, 2000, a proposed First Amendment to the Modification of the Work Schedule (“Work Schedule Modification”) in United States and the State of New Hampshire v. City of Dover, et al, Civil Action No. 1:92-CV-406-M, was lodged with the United States District Court for the District of New Hampshire. This Work Schedule Modification revises a Consent Decree that was entered by the Court in 1993 (“1993 Consent Decree”).

In the 1993 Consent Decree the settling defendants agreed to implement the Record of Decision (“ROD”) for the Dover Municipal Landfill Superfund Site (“Site”) in Dover, New Hampshire. The ROD required the settling defendants to construct a cap and pump and treat the groundwater. The proposed Work Schedule Modification amends the 1993 Consent Decree by extending the completion date of the final Remedial Design and commencement of the Remedial Action until November 30, 2001. During this additional time, the settling defendants will complete a field study of a bioremediation technology at the Site. Continuing the bioremediation study and delaying the commencement of the cap allows the parties to continue exploring a significantly less expensive innovative technology while continuing to protect the environment.

The Department of Justice will receive, for a period of thirty (30) days from the date of this publication, comments relating to the Work Schedule Modification. Comments should be addressed to the Assistant Attorney General for the Environment and Natural Resources Division, P.O. Box 7611, U.S. Department of Justice, Washington, D.C. 20044-7611, and should refer to United States and the State of New Hampshire v. City of Dover, et al., DOJ Ref. #90-11-2-735.

The Work Schedule Modification may be examined at the office of the United States Attorney, District of New Hampshire, U.S. Department of Justice, 55 Pleasant Street, Room 352, Concord, New Hampshire, 03301-3904, and at U.S. EPA New England (Region 1), 1 Congress Street, Suite 1100, Boston, Massachusetts, 02114. A copy of the Work Schedule Modification may also be obtained by mail from the Consent Decree Library, P.O. Box 7611, U.S. Department of Justice, Washington, DC. 20044-7611. In requesting a copy, please enclose a check in the amount of $6.00 (25 cents per page reproduction cost) payable to the Consent Decree Library.

Walker Smith,
Principal Deputy Chief, Environmental Enforcement Section, Environmental and Natural Resources Division.

[FR Doc. 00-30605 Filed 11-30-00; 8:45 am]

BILLING CODE 4410-15-M